DEPARTMENT OF COMMERCE

National Oceanic and Atmospheric Administration

RIN 0648-XC470

Vessel Monitoring Systems (VMS); Certification of New VMS Unit for Use in Northeast Fisheries

AGENCY: National Marine Fisheries Service (NMFS), National Oceanic and Atmospheric Administration (NOAA), Commerce.

ACTION: Notice of VMS unit certification.

SUMMARY: NMFS announces the approval and certification of the CLS America Thorium VMS Terminal model 100 (TST-100) with Iridium satellite communications network for use in the northeastern United States in which VMS units are required.

DATES: This new TST-100 unit can be used effective January 24, 2013.

FOR FURTHER INFORMATION CONTACT: Office of Law Enforcement, Northeast Division, Northeast VMS Team, telephone 978-281-9213.

SUPPLEMENTARY INFORMATION: Regulations at 50 CFR 648.9 and 648.10 set forth VMS requirements for fisheries in the northeastern United States for the operation of VMS units used for reporting and monitoring. Specifically, 50 CFR 648.9 requires that minimum performance criteria published by the NMFS Office of Law Enforcement and any established Northeast regional standards must be met in order to be certified for use.

The Administrator, Northeast Region, NMFS, has reviewed all components of the TST-100 VMS unit and other information provided by the vendor and has certified the following unit for use in all Northeast fisheries in which VMS units are required: Thorium TST-100, available from CLS America, Inc., 4300 Forbes Blvd., Suite 110, Lanham, Maryland 20706, telephone (301) 925-4411, fax (301) 925-8995, email: fishing@clsamerica.com.

Authority: 16 U.S.C. 1801 et seq.

Dated: January 25, 2013.
Kara Meckley,
Acting Deputy Director, Office of Sustainable Fisheries, National Marine Fisheries Service.

[FR Doc. 2013-02131 Filed 1-31-13; 8:45 am]

BILLING CODE 3510-22-P